DEPARTMENT OF JUSTICE

Notice of Lodging Proposed Consent Decree

In accordance with Department Policy, 28 CFR 50.7, notice is hereby given that a proposed Consent Decree in United States v. G & R Farms, Inc. and Robert E. Dasher (S.D. Ga.), CV 603-115, was lodged with the United States District Court for the Southern District of Georgia, Stateboro Division, on September 25, 2003.

This proposed Consent Decree concerns a compliant filed by the United States against G & R Farms, Inc. and Robert E. Dasher, pursuant to section 309(b) and (d) of the Clean Water Act, 33 U.S.C. 1319(b) and (d), to obtain injunctive relief from and impose civil penalties against the Defendants for violating the Clean Water Act by discharging pollutants without a permit into waters of the United States. The proposed Consent Decree resolves these allegations by requiring the defendants to restore the impacted areas and to pay a civil penalty. The Consent Decree also provides for the defendants to perform a supplemental environmental project.

The Department of Justice will accept written comments relating to this proposed Consent Decree for thirty (30) days from the date of publication of this Notice. Please address comments to Pamela S. Tonglao, Trial Attorney, United States Department of Justice, Environmental and Natural Resources Division, P.O. Box 23986, Washington, DC 20026-3986 and refer to United States v. G &R Farms and Robert E. Dasher (S.D. Ga) CV603-115, DJ #90-5-1-1-05552.

The proposed Consent Decree may be examined at the Clerk's Office, United States District Court for the Southern District of Georgia, Statesboro Division, 52 N. Main Street, Statesboro, GA 30458. In addition, the proposed Consent Decree may be viewed at http://www.usdoj.gov/enrd/open.html.

Stephen Samuels,
Assistant Chief, Environmental Defense Section, Environment & Natural Resources Division.

[FR Doc. 03-26245 Filed 10-16-03; 8:45 am]

BILLING CODE 4410-15-M